DEPARTMENT OF LABOR

Employment and Training Administration

Labor Surplus Area Classification Under Executive Orders 12073 and 10582

AGENCY: Employment and Training Administration, Labor.

ACTION: Notice.

SUMMARY: The purpose of this notice is to update the 2010 Labor Surplus Areas annual list published in the Federal Register, Vol. 74, No. 209, Friday, October 30, 2009, pages 56217-56239.

DATES: Effective Date: The update of the annual list of labor surplus areas is effective immediately for all states, the District of Columbia, and Puerto Rico.

FOR FURTHER INFORMATION CONTACT: Samuel Wright, Office of Workforce Investment, Employment and Training Administration, 200 Constitution Avenue, NW., Room S-4231, Washington, DC 20210. Telephone: (202) 693-2870 (This is not a toll-free number).

SUPPLEMENTARY INFORMATION: For supplementary, eligibility, classification procedures and petition for exceptional circumstances procedure information refer to the original 2010 Labor Surplus Area list at http://edocket.access.gpo.gov/2009/pdf/E9-26165.pdf.

Signed at Washington, DC, this 25th day of February 2010.
Jane Oates,
Assistant Secretary for Employment and Training Administration.

[FR Doc. 2010-4465 Filed 3-3-10; 8:45 am]

BILLING CODE 4510-FT-P